DEPARTMENT OF THE TREASURY

Agency Information Collection Activities; Submission for OMB Review; Comment Request; Multiple Bureau of the Fiscal Service Information Collection Requests

AGENCY: Departmental Offices, U.S. Department of the Treasury.

ACTION: Notice of information collection; request for comment.

SUMMARY: The Department of the Treasury will submit the following information collection requests to the Office of Management and Budget (OMB) for review and clearance in accordance with the Paperwork Reduction Act of 1995, on or after the date of publication of this notice. The public is invited to submit comments on these requests.

DATES: Comments should be received on or before March 1, 2024 to be assured of consideration.

ADDRESSES: Written comments and recommendations for the proposed information collection should be sent within 30 days of publication of this notice to https://www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at https://www.reginfo.gov.

SUPPLEMENTARY INFORMATION:

Bureau of the Fiscal Service

1. Title: Generic Clearance for the Collection of Qualitative Feedback on Agency Service Delivery.

OMB Control Number: 1530-0023.

Type of Review: Extension without change of a currently approved collection.

Description: This collection of information is necessary to enable the Agency to garner customer and stakeholder feedback in an efficient, timely manner, in accordance with our commitment to improving service delivery. The information collected from our customers and stakeholders will help ensure that users have an effective, efficient, and satisfying experience with the Agency's programs.

Form: None.

Affected Public: Individuals and households.

Estimated Number of Respondents: 75,000.

Frequency of Response: Once.

Estimated Total Number of Annual Responses: 75,000.

Estimated Time per Response: 10 minutes.

Estimated Total Annual Burden Hours: 12,000.

2. Title: Legacy Treasury Direct Forms.

OMB Control Number: 1530-0042.

Type of Review: Extension without change of a currently approved collection.

Description: The collection of this information is necessary to identify securities and to determine the circumstances related to their loss, theft, or destruction. Chapter 31 of Title 31 of the United States Code (31 U.S.C. 3101, et seq.) authorizes the Secretary of the Treasury to issue United States Treasury Bills, Bonds, Notes, and to prescribe the terms and conditions governing those issuances.

Form: FS Forms 5178, 5179, 5188, 5191, 5235 and 5236.

Affected Public: Individuals and households.

Estimated Number of Respondents: 5,100.

Frequency of Response: Once, On occasion.

Estimated Total Number of Annual Responses: 5,100.

Estimated Time per Response: 13 minutes.

Estimated Total Annual Burden Hours: 1,105.

3. Title: Resolution for Transactions Involving Treasury Securities.

OMB Control Number: 1530-0049.

Type of Review: Extension without change of a currently approved collection.

Description: The information is collected to establish an official's authority (by name and title) when conducting transactions involving Treasury Securities on behalf of an organization.

Form: FS Form 1010.

Affected Public: Businesses or other for-profits.

Estimated Number of Respondents: 3,500.

Frequency of Response: Once, On occasion.

Estimated Total Number of Annual Responses: 3,500.

Estimated Time per Response: 10 minutes.

Estimated Total Annual Burden Hours: 583.

4. Title: Direct Deposit Sign-Up Form.

OMB Control Number: 1530-0050.

Type of Review: Extension without change of a currently approved collection.

Description: This form is used to request the direct deposit of Series HH or Series H bond interest payments or a savings bond redemption payment.

Form: FS Form 5396.

Affected Public: Individuals and households.

Estimated Number of Respondents: 14,000.

Frequency of Response: On occasion.

Estimated Total Number of Annual Responses: 14,000.

Estimated Time per Response: 10 minutes.

Estimated Total Annual Burden Hours: 2,333.

5. Title: U.S. Treasury Auctions Submitter Agreement.

OMB Control Number: 1530-0056.

Type of Review: Extension without change of a currently approved collection.

Description: The information is requested from entities wishing to participate in U.S. Treasury Securities auctions via the Treasury Automated Auction Processing System (TAAPS).

Form: FS Forms 5441 and 5441-2

Affected Public: Businesses or other for-profits.

Estimated Number of Respondents: 1,050.

Frequency of Response: On occasion.

Estimated Total Number of Annual Responses: 1,050.

Estimated Time per Response: 5 minutes.

Estimated Total Annual Burden Hours: 88.

Authority: 44 U.S.C. 3501 et seq.

Spencer W. Clark,
Treasury PRA Clearance Officer.

[FR Doc. 2024-01920 Filed 1-30-24; 8:45 am]

BILLING CODE 4810-AS-P